INTERNATIONAL TRADE COMMISSION

[Investigation No. 337-TA-870]

Certain Electronic Bark Control Collars, Termination of the Investigation

AGENCY: U.S. International Trade Commission.

ACTION: Notice.

SUMMARY: Notice is hereby given that the U.S. International Trade Commission has determined not to review an initial determination (“ID”) (Order No. 3) of the presiding administrative law judge (“ALJ”) terminating the investigation based on a settlement agreement.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at at http://www.usitc.gov. Hearing-impaired persons are advised that information on this matter can be obtained by contacting the Commission's TDD terminal on (202) 205-1810.

SUPPLEMENTARY INFORMATION: The Commission instituted this investigation on February 25, 2013, based on a complaint filed on behalf of Radio Systems Corporation of Knoxville, Tennessee. 78 FR 12788-89. The complaint alleges violations of section 337 of the Tariff Act of 1930, as amended, 19 U.S.C. 1337, in the importation into the United States, the sale for importation, and the sale within the United States after importation of certain electronic bark control collars by reason of infringement of certain claims of U.S. Patent No. 5,927,233. The complaint further alleged the existence of a domestic industry. The Commission's notice of investigation named Sunbeam Products, Inc. (d/b/a Jarden Consumer Solutions) of Boca Raton, Florida as the sole respondent.

On February 27, 2013, complainant and respondent jointly moved to terminate the investigation based on a settlement agreement. The Commission investigative attorney filed a response in support of the motion.

The ALJ issued the subject ID on March 25, 2013, granting the joint motion for termination of the investigation. He found that the joint motion for termination based on a settlement agreement satisfied Commission rule 210.21(b)(1). He further found, pursuant to Commission rule 210.50(b)(2), that termination of this investigation based on a settlement agreement is in the public interest. No party petitioned for review of the ID.

The Commission has determined not to review the subject ID, and has terminated the investigation.

The authority for the Commission's determination is contained in section 337 of the Tariff Act of 1930, as amended (19 U.S.C. 1337), and in sections 210.21 and 210.42(h) of the Commission's Rules of Practice and Procedure (19 CFR 210.21, 210.42(h)).

Issued: April 15, 2013.
By order of the Commission.
Lisa R. Barton,
Acting Secretary to the Commission.

[FR Doc. 2013-09170 Filed 4-18-13; 8:45 am]

BILLING CODE 7020-02-P